DEPARTMENT OF THE INTERIOR

Bureau of Land Management

[12X.LLAK942000.L54200000.FR0000. LVDIL0490000; AA093210]

Notice of Application for a Recordable Disclaimer of Interest for Lands Underlying the Kanektok River System Including Pegati and Kagati Lakes, Alaska

AGENCY: Bureau of Land Management, Interior.

ACTION: Notice.

SUMMARY: The State of Alaska (State) has filed an application with the Bureau of Land Management (BLM) for a Recordable Disclaimer of Interest (RDI) from the United States in those lands underlying the Kanektok River System, including Pegati and Kagati Lakes, a major drainage into Kuskokwim Bay in southwestern Alaska. The State asserts that the Kanektok River System, including Pegati and Kagati Lakes, was navigable and unreserved at the time of Alaska Statehood in 1959.

DATES: The BLM should receive all comments to this action on or before May 10, 2018.

ADDRESSES: You may submit comments by mail or email on the State of Alaska's application for an RDI or on the BLM draft “Summary Report on the Federal Interest in Lands underlying the Kanektok River System (including Pegati and Kagati Lakes).” To file comments by mail, send to: RDI Program Manager (AK-942), Division of Lands and Cadastral, BLM Alaska State Office, 222 West 7th Avenue, #13, Anchorage, AK 99513. To submit comments by email, send to anichols@blm.gov.

FOR FURTHER INFORMATION CONTACT: Angie Nichols, RDI Program Manager, 222 West 7th Avenue, #13, Anchorage, AK 99513; 907-271-3359; anichols@blm.gov; or visit the BLM RDI website at https://www.blm.gov/programs/lands-and-realty/regional-information/alaska/RDI/kuskokwim.

People who use a telecommunications device for the deaf (TDD) may call the Federal Relay System (FRS) at 1-800-877-8339 to contact the above individual during normal business hours. The FRS is available 24 hours a day, seven days a week, to leave a message or a question with the above individual. You will receive a reply during normal business hours.

SUPPLEMENTARY INFORMATION: On Feb. 28, 2012, the State filed an application (AA-93210) for an RDI pursuant to Section 315 of the Federal Land Policy and Management Act of 1976 (FLPMA) and the regulations contained in 43 CFR Subpart 1864 for the lands underlying the Kanektok River System, including Pegati and Kagati Lakes. The State asserts that this river system was navigable at the time of Alaska Statehood. As such, the State contends that ownership of the lands underlying this river system automatically passed from the United States to the State in 1959 at the time of Statehood under the Equal Footing Doctrine; the Submerged Lands Act of 1953; the Alaska Statehood Act; and other title navigability law. Section 315 of FLPMA authorizes the BLM to issue an RDI when it determines that a record interest of the United States in lands has terminated by law or is otherwise invalid, and a disclaimer will help remove a cloud on title to such lands.

The State's application is for an RDI for all submerged lands underlying the portion of the Kanektok River System, including Pegati and Kagati Lakes. Specifically, these are the submerged lands and bed up to, and including, the ordinary high water line of Pegati and Kagati Lakes within: Townships 3-4 south, range 63 west, Seward Meridian, Alaska and for the submerged lands and bed of the Kanektok River lying between the ordinary high water lines of the right and left banks of that river from the outlet of Pegati Lake within township 3 south, range 63 west, Seward Meridian, Alaska, downstream to the location where the river enters the Kuskokwim Bay within township 5 south, range 74 west, Seward Meridian, Alaska, USGS 1:63,360 series topographic map Goodnews C-5, 6, 8, and D-3-8. The State's application for the Kanektok River System starting at Pegati and Kagati Lakes downstream to Kuskokwim Bay flows through the following area: Townships 3-4 south, range 63 west; township 3 south, range 64 west; township 3 south, range 65 west; township 3 south, range 66 west; township 4 south, range 66 west; township 4 south, range 67 west; township 5 south, range 68 west; township 5 south, range 69 west; township 4 south, range 69 west; township 4 south, range 70 west; township 4 south, range 71 west; township 4 south, range 72 west; township 4 south, range 73 west; township 5 south, range 73 west; township 5 south, range 74 west, Seward Meridian, Alaska. Over time, the precise location of the submerged lands described above may vary between townships due to the ambulatory nature of these water bodies. An RDI is a legal document through which the BLM disclaims the United States' interest in, or ownership of, specified lands, but the disclaimer does not grant, convey, transfer, or renounce any title or interest in the lands, nor does it release any tax, judgment, or lien. This Notice of Application is to inform the public of the pending application and the State supporting evidence, as well as to provide the opportunity to comment or provide additional information to the BLM.

The BLM will not make a final decision on the merits of the State's application before May 10, 2018. During this 90-day period, interested parties may comment on the State's application, AA-93210, and supporting evidence.

During this 90-day comment period, interested parties may also comment on the BLM's draft “Summary Report on the Federal Interest in Lands underlying the Kanektok River System including Pegati and Kagati Lakes” for the State's application for a RDI, which is available on the BLM's RDI website (see FOR FURTHER INFORMATION CONTACT above).

Copies of the State application, supporting evidence, the BLM Draft Summary Report, and comments, including names and street addresses of commenters, will be available for public review at the Alaska State Office, Public Room, 222 West 7th Avenue, #13, Anchorage, AK 99513, during regular business hours 7:30 a.m. to 4:30 p.m., Monday through Friday, except holidays. Before including your address, phone number, email address, or other personally identifying information in your comment, you should be aware that your entire comment—including your personally identifying information—may be made publicly available at any time. While you can ask the BLM in your comment to withhold your personally identifying information from public review, we cannot guarantee that we will be able to do so.

If the BLM determines the State's evidence and any additional information the agency receives concerning the State's application is sufficient to find a favorable determination, and neither the records nor a valid objection discloses a reason not to disclaim, the BLM may decide to approve the application for the RDI.

Authority: 43 CFR 1864.2.

Erika L. Reed,
Deputy State Director, Division of Lands and Cadastral, Alaska.

[FR Doc. 2018-02679 Filed 2-8-18; 8:45 am]

BILLING CODE 4310-JA-P